DEPARTMENT OF ENERGY

Federal Energy Regulatory Commission

[Docket No. EL04-137-000]

Cabazon Wind Partners, LLC, Complainants v. Southern California Edison Company, Respondents; Notice of Complaint

September 28, 2004.

Take notice that on September 27, 2004, Cabazon Wind Partners, LLC (Cabazon) filed a formal complaint against Southern California Edison Company (SCE) pursuant to section 206 of the Federal Power Act. Cabazon states that the complaint alleges that (1) the failure of the Interconnection Facilities Agreement (IFA) between Cabazon and Edison to provide Cabazon credit for its upfront payments for network upgrades, misclassified as distribution facilities, causes Southern California Edison's transmission rates to be unjust and unreasonable; and (2) the IFA is unjust and unreasonable separately because it requires Cabazon to pay a tax gross-up associated with the misclassified network upgrades.

Cabazon states that copies of the complaint were served on the contacts for (SCE) as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on October 18, 2004.

Linda Mitry,
Acting Secretary.

[FR Doc. E4-2485 Filed 10-4-04; 8:45 am]

BILLING CODE 6717-01-P